SECURITIES AND EXCHANGE COMMISSION

[Release No. 34-104320A; File No. SR-NYSEARCA-2025-79]

Self-Regulatory Organizations; NYSEArca, Inc.; Notice of Filing and Immediate Effectiveness of Proposed Rule Change of Amendments to Rules 5.3-O and 5.4-O; Correction

December 10, 2025.

AGENCY: Securities and Exchange Commission.

ACTION: Notice; correction.

SUMMARY: The Securities and Exchange Commission published a document in the Federal Register on December 10, 2025, concerning Immediate Effectiveness of Proposed Rule Change of Amendments to Rule 5.3-O and 5.4-O. The document contained typographical errors.

FOR FURTHER INFORMATION CONTACT: Lloyd Ellis, Securities and Exchange Commission, 100 F Street NE, Washington, DC 20549, (202) 551-5400.

Correction

In the Federal Register of December 10, 2025, in FR Doc. 2025-22395, at 89 FR 57230 on page 57235, in the third column, under the heading “Paper Comments” correct the reference to “SR-NYSEAMER-2025-64” to read “SR-NYSEArca-2025-79;” and on page 57236, in the first column, on the fourth line, correct the reference to “SR-NYSEAMER-2025-64” to read “SR-NYSEArca-2025-79.”

Sherry R. Haywood,
Assistant Secretary.

[FR Doc. 2025-22725 Filed 12-12-25; 8:45 am]

BILLING CODE 8011-01-P